DEPARTMENT OF ENERGY

Federal Energy Regulatory Commission

[Docket No. ER02-613-002, et al.]

San Diego Gas & Electric Company, et al.; Electric Rate and Corporate Regulation Filings

July 29, 2002.

The following filings have been made with the Commission. The filings are listed in ascending order within each docket classification.

1. San Diego Gas & Electric Company

[Docket No. ER02-613-002]

Take notice that on July 24, 2002 San Diego Gas & Electric Company (SDG&E) tendered for filing with the Federal Energy Regulatory Commission (Commission) its corrected Transmission Owner Tariff sheets in accordance with the Commission's Order Conditionally Accepting Tariff Sheets as Modified, issued in the above docket on June 27, 2002 (99 FERC ¶ 61,364).

The corrections reflect an increase to SDG&E's Reliability Must Run (RMR) revenue requirement that will allow SDG&E to recover franchise fee payments to the cities and counties in its service territory for the period beginning May 1, 2002 through December 31, 2002, subject to refund, as stated in the June 27, 2002 order. The corrected tariff sheets are effective July 1, 2002.

Comment Date: August 14, 2002.

2. San Diego Gas & Electric Company

[Docket No. ER02-1558-002]

Take notice that on July 22, 2002 San Diego Gas & Electric Company (SDG&E) tendered for filing with the Federal Energy Regulatory Commission (Commission) Amendment No. 1 to Service Agreement No. 5 to SDG&E's FERC Electric Tariff, First Revised Volume No. 6.

The Amendment No. 1, incorporates a change to the rate of the Operating & Maintenance (O&M) charges to be paid by RAMCO Escondido to SDG&E. The change in O&M rate was approved by the Commission in a letter order dated June 11, 2002.

SDG&E states in its filing that copies of the Amendment No. 1 have been served on RAMCO, Inc.

Comment Date: August 12, 2002.

3. Dominion Energy Marketing, Inc.

[Docket No. ER02-2360-000]

Take notice that on July 24, 2002, Dominion Energy Marketing, Inc. (the Company) respectfully tendered for filing the a Service Agreement by Dominion Energy Marketing, Inc. to Old Dominion Electric Cooperative designated as Service Agreement No. 7 under the Company's Market-Based Sales Tariff, FERC Electric Tariff, Original Volume No. 1, effective on December 15, 2000. The Company requests an effective date of June 26, 2002, as requested by the customer.

Copies of the filing were served upon the Old Dominion Electric Cooperative, the Virginia State Corporation Commission, and the North Carolina Utilities Commission.

Comment Date: August 14, 2002.

4. WPS Westwood Generation, LLC

[Docket No. ER02-2361-000]

Take notice that July 24, 2002 WPS Resources Corporation, on behalf of WPS Westwood Generation, LLC (WPS Westwood), tendered for filing with the Federal Energy Regulatory Commission (Commission) a rate schedule and cost support for WPS Westwood's Reactive Supply and Voltage Control from Generation Sources Service to be provided by its 30 MW Generating station located in Joliett, Pennsylvania pursuant to Section 205 of the Federal Power Act, 16 U.S.C. § 824d; Part 35 of the Commission's regulations, 18 CFR Part 35; and Schedule 2 of the PJM Interconnection, L.L.C. (PJM) Open Access Transmission Tariff with a requested effective date of July 25, 2002.

Copies of the filing were served on PJM and the Pennsylvania Public Utilities Commission.

Comment Date: August 14, 2002.

5. Sunbury Generation, LLC

[Docket No. ER02-2362-000]

Take notice that on July 24, 2002 WPS Resources Corporation on behalf of Sunbury Generation, LLC (Sunbury) tendered for filing with the Federal Energy Regulatory Commission (Commission) a rate schedule and cost support for Sunbury's Reactive Supply and Voltage Control from Generation Sources Service Reactive Power Service to be provided by the 389 MW coal-fired units in its generating station located in Snyder County, Pennsylvania pursuant to Section 205 of the Federal Power Act, 16 U.S.C. § 724d; Part 35 of the Commission's regulations, 18 CFR Part 35; and Schedule 2 of the PJM Interconnection, L.L.C. (PJM) Open Access Transmission Tariff with a requested effective date of July 25, 2002.

Copies of the filing were served on PJM and the Pennsylvania public Utilities Commission.

Comment Date: August 14, 2002.

6. MEG Marketing, LLC

[Docket No. ER02-2368-000]

Take notice that on July 23, 2002, MEG Marketing, LLC (MEG) filed a notice of cancellation of MEG's Rate Schedule FERC No. 2, as supplemented by Supplement No. 1 to Rate Schedule FERC No. 2, filed with the Federal Energy Regulatory Commission by MEG in FERC Docket No. ER98-2284-004 on April 14, 1999, and effective June 14, 1999. MEG's Rate Schedule FERC No. 2, as supplemented, superseded its Rate Schedule FERC No. 1, filed in Docket No. ER98-2284-000 on March 24, 1998, and effective May 4, 1998. MEG proposes that the cancellation be effective as of July 23, 2002.

Comment Date: August 13, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-19613 Filed 8-2-02; 8:45 am]

BILLING CODE 6717-01-P